DEPARTMENT OF TRANSPORTATION

Office of the Secretary

Notice of Applications for Certificates of Public Convenience and Necessity and Foreign Air Carrier Permits Filed Under Subpart Q During the Week Ending June 16, 2000

The following Applications for Certificates of Public Convenience and Necessity and Foreign Air Carrier Permits were filed under Subpart Q of the Department of Transportation's Procedural Regulations (See 14 CFR 302.1701 et. seq.). The due date for Answers, Conforming Applications, or Motions to modify Scope are set forth below for each application. Following the Answer period DOT may process the application by expedited procedures. Such procedures may consist of the adoption of a show-cause order, a tentative order, or in appropriate cases a final order without further proceedings.

Docket Number: OST-1999-6319.

Date Filed: June 12, 2000.

Due Date for Answers, Conforming Applications, or Motion to Modify Scope: July 3, 2000.

Description: Application of Northwest Airlines, Inc. pursuant to 49 U.S.C. Section 41102 and Subpart B, applies to amend its Experimental Certificate of Public Convenience and Necessity for Route 564 (U.S.-Mexico) to incorporate segments authorizing service between Newark and Acapulco, Puerto Vallarta and San Jose del Cabo.

Docket Number: OST-2000-7525.

Date Filed: June 15, 2000.

Due Date for Answers, Conforming Applications, or Motion to Modify Scope: July 6, 2000.

Description: Application of Emery Worldwide Airlines, Inc. (“Emery Air”) pursuant to 49 U.S.C. 41102 and Subpart B, requests amendment of its Route 743 certificate authority to incorporate all of its currently-held U.S.-Mexico exemption authority. Emery Air asks for authority to integrate its amended Route 743 authority with its existing certificate and exemption authority and that the authority become effective immediately for a five year period.

Andrea M. Jenkins,
Federal Register Liaison.

[FR Doc. 00-16386 Filed 6-27-00; 8:45 am]

BILLING CODE 4910-62-P